DEPARTMENT OF ENERGY

Federal Energy Regulatory Commission

[Project No. 15282-000]

White Rapids, LLC; Notice of Preliminary Permit Application Accepted for Filing and Soliciting Comments, Motions To Intervene, and Competing Applications

On July 6, 2022, White Rapids, LLC filed an application for a preliminary permit, pursuant to section 4(f) of the Federal Power Act, proposing to study the feasibility of the Slater Hydroelectric Project No. 15282 (project), to be located on the Blackstone River in Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) an existing stone masonry dam (Ashton Dam) that includes: (a) an approximately 10-foot-long west abutment; (b) an approximately 250-foot-long spillway that would be retrofitted to include a new crest gate; (c) a 25-foot-long, 20-foot high gate structure with two 10-foot-long, 10-foot-high openings; (d) a 40-foot-long spillway that would be replaced with a new 40-foot-long, 60-foot-wide concrete powerhouse that includes two 420-kilowatt Kaplan turbine-generator units; and (e) an approximately 10-foot-long east abutment; (2) an existing impoundment with a surface area of 35 acres at an elevation of 74.0 feet national geodetic vertical datum of 1929; (3) a new intake structure with a 70- to 100-foot-long angled trashrack with 0.75-inch clear bar spacing; (4) two new 10-foot-long, 10-foot-high steel headgates; (5) a new 40-foot-long, 60-foot-wide tailrace; (6) a new 850-foot-long, 13.8-kilovolt transmission line connecting the turbine-generator units to the regional grid; and (7) appurtenant facilities. The estimated annual generation of the Slater Hydroelectric Project would be 3,500 megawatt-hours.

Applicant Contact: Mr. William Fay, White Rapids, LLC, 4145 Church Street, P.O. Box 193, Palmer, Massachusetts 01079; phone: (413) 362-5410; email: fayengineeringservices@gmail.com.

FERC Contact: Erin Kimsey; phone: (202) 502-8621; email: Erin.Kimsey@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15282-000.

In addition to publishing the full text of this document in the Federal Register, the Commission provides all interested persons an opportunity to view and/or print the contents of this document via the internet through the Commission's Home Page (http://ferc.gov) using the “eLibrary” link. Enter the docket number excluding the last three digits in the docket number field to access the document. For assistance, contact FERC Online Support.

Dated: December 5, 2022.
Kimberly D. Bose,
Secretary.

[FR Doc. 2022-26774 Filed 12-8-22; 8:45 am]

BILLING CODE 6717-01-P